DEPARTMENT OF THE INTERIOR

National Park Service

[NPS-WASO-NRNHL-24702; PPWOCRADI0, PCU00RP14.R50000]

National Register of Historic Places; Notification of Pending Nominations and Related Actions

AGENCY: National Park Service, Interior.

ACTION: Notice.

SUMMARY: The National Park Service is soliciting comments on the significance of properties nominated before November 18, 2017, for listing or related actions in the National Register of Historic Places.

DATES: Comments should be submitted by December 26, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before November 18, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CONNECTICUT

Hartford County

Montgomery, J.R., Company Industrial Complex, 25 Canal Bank Rd., Windsor Locks, SG100001915

HAWAII

Hawaii County

First Bank of Hilo, Ltd., 45-3490 Mamane St., Unit G, Honoka'a, MP100001916

International Longshore and Warehouse Union (ILWU) Jack Wayne Hall Building, 45-3720 Honoka'a-Waipi'o Rd., Honoka'a, MP100001917

Kotake, Kamekichi and Mika, Store Property, 45-3620 Mamane St., Honoka'a, MP100001918

Honolulu County

Waimalu Shopping Center, 98-109 Hekala St., Aiea, SG100001919

IDAHO

Latah County

Kendrick Downtown Historic District, Generally bounded by 3rd, & S Kirby Sts., original NPRR alignment & grade rising N of E.Main St., Kendrick, SG100001920

ILLINOIS

Coles County

Lumpkin Heights and Elm Ridge Subdivision Historic District, Roughly bounded by Logan & 6th Sts., Lafayette & Charleston Aves., & Elm Ridge Subdivision, Mattoon, SG100001921

Cook County

Emmanuel Episcopal Church, 203 S. Kensington Ave., LaGrange, SG100001922

Peabody, Elizabeth, School, 1444 W. Augusta Blvd., Chicago, SG100001923

Kane County

Corron Farm, 7N761 Corron Rd., St. Charles vicinity, SG100001925

La Salle County

LaSalle Downtown Commercial District, 400-800 & N side of 900 & 1000 blks. of 1st, 400-700 blks. of 2nd, & 100 & 200 blks. Of Wright, Gooding, Marquette Sts., LaSalle, SG100001926

MAINE

Kennebec County

Hartford Fire Station, 1 Hartford Sq., Augusta, SG100001927

MARYLAND

Worcester County

Craig, Captain Robert S., Cottage, 706 St. Louis Ave., Ocean City, SG100001929

OHIO

Erie County

ANTHONY WAYNE Shipwreck, Address Restricted, Vermillion vicinity, SG100001932

Hamilton County

Duttenhofer Building, 299 E. 6th St., Cincinnati, SG100001933

Main Theatre, 7428 Hamilton Ave., Mt. Healthy, SG100001934

Summit County

Zimmerly House, 4332 Manchester Rd., New Franklin, SG100001936

PENNSYLVANIA

Philadelphia County

Frankford Arsenal (Boundary Decrease), Roughly bounded by Baird St., Frankfort Cr., Delaware R., Dietz & Watson plants and wall along Tacony St., Philadelphia, BC100001935

VERMONT

Caledonia County

Caledonia No. 9 Grange Hall, 88 Church St., East Hardwick, SG100001937

Additional documentation has been received for the following resources:

MAINE

Sagadahoc County

Richmond Historic District, Roughly bounded by South, High, Kimbal Sts., and the Kennebec River, Richmond, AD73000146

VERMONT

Washington County

Barre Downtown Historic District, Generally along Depot Sq., E side of RR ROW, N Main, Washington, & S Main Sts., Barre, AD79000227

Nomination(s) submitted by Federal Preservation Officers:

The State Historic Preservation Officer reviewed the following nominations and responded to the Federal Preservation Officer within 45 days of receipt of the nominations and supports listing the properties in the National Register of Historic Places.

ILLINOIS

Cook County

Rand McNally Building, 536 S. Clark St., Chicago, SG100001924

MICHIGAN

Kalamazoo County

United States Post Office, 410 W. Michigan Ave., Kalamazoo, MP100001930

MONTANA

Granite County

Moose Lake Camp Historic District, Moose Lake Residential Site, Lots 4 & 5, Block B, Philipsburg vicinity, SG100001931

WASHINGTON

Skamania County

Government Mineral Springs Guard Station, End of FS Rd. 3065 off of Wind R. Hwy., Mt. Adams Ranger Dist., Gifford Pinchot NF vicinity, SG100001939

Authority: 60.13 of 36 CFR part 60.

Dated: November 27, 2017.
Julie H. Ernstein,
Acting Chief, National Register of Historic Places/National Historic Landmarks Program.

[FR Doc. 2017-26496 Filed 12-7-17; 8:45 am]

BILLING CODE 4312-52-P